DEPARTMENT OF JUSTICE

Notice of Lodging of Proposed Consent Decree Under the Comprehensive Environmental Response, Compensation, and Liabiality Act

On December 16, 2025 the Department of Justice lodged a proposed consent decree with the United States District Court for the Eastern District of Texas in the lawsuit entitled United States v. Entergy Louisiana, LLC, et al., Civil Action No. 4:25-cv-1400.

The United States filed this lawsuit on behalf of the U.S. Environmental Protection Agency for the recovery of response costs under section 107(a) of CERCLA against six electrical utility companies that sent transformers contaminated with polychlorinated biphenyls (or “PCBs”), a hazardous substance, to the F.J. Doyle Salvage Superfund Site, located in Leonard, Texas, for disposal. The Site became contaminated with PCBs, and EPA performed a Site cleanup by excavating the contaminated soil. The consent decree resolves the United States' claims against the six electrical utility companies: Entergy Louisiana, LLC; Entergy Texas, Inc.; the City of Garland, Texas; Lighthouse Electric Cooperative, Inc.; Southwestern Electric Power Company; and Oncor Electric Delivery Company LLC. Collectively, they will pay $1,001,630.21 of EPA's $4,006,520.83 million in response costs. EPA has concluded that this amount is appropriate given each settling defendant's alleged contribution to the Site's contamination. In exchange, the United States covenants not to sue settling defendants to collect any additional response costs for the Site, and the settling the defendants will be granted protection from contribution actions or claims as provided by Section 113(f)(2) of CERCLA.

The publication of this notice opens a period for public comment on the consent decree. Comments should be addressed to the Acting Assistant Attorney General, Environment and Natural Resources Division, and should refer to United States v. Entergy Louisiana, LLC, et al., D.J. Ref. No. 90-11-3-12574. All comments must be submitted no later than thirty (30) days after the publication date of this notice. Comments may be submitted either by email or by mail:

To submit comments: | Send them to:
By e-mail | pubcomment-ees.enrd@usdoj.gov.
By mail | Acting Assistant Attorney General, U.S. DOJ—ENRD, P.O. Box 7611, Washington, DC 20044-7611.

During the public comment period, the consent decree may be examined and downloaded at this Justice Department website: https://www.justice.gov/enrd/consent-decrees. If you require assistance accessing the consent decree, you may request assistance by email or by mail to the addresses provided above for submitting comments.

Thomas Carroll,
Assistant Section Chief, Environmental Enforcement Section, Environment and Natural Resources Division.

[FR Doc. 2025-23505 Filed 12-19-25; 8:45 am]

BILLING CODE 4410-15-P